DEPARTMENT OF AGRICULTURE

Forest Service

Snohomish County Resource Advisory Committee (RAC)

AGENCY: Forest Service, USDA.

ACTION: Notice of meetings.

SUMMARY: The Snohomish County Resource Advisory Committee (RAC) has scheduled two upcoming meetings at the Snohomish County Administration Building, 3000 Rockefeller Ave., Everett, Wa. 98201. The first meeting will be Tuesday, April 26, 2005 in the Willis Tucker Conference Room, 3rd floor, beginning at 9 a.m. and ending about 4 p.m. The second meeting, if needed, will be Tuesday, May 3, 2005 in the Willis Tucker Conference Room, 3rd floor, beginning at 10 a.m. and ending about 4 p.m.

The agenda items to be covered are Background on the Secure Rural Schools and Community Self-Determination Act of 2000, the orientation of new members and the review and recommendation of Title II projects for FY 2006.

All Snohomish County Resource Advisory Committee meetings are open to the public. Interested citizens are encouraged to attend.

The Snohomish County Resource Advisory Committee advises Snohomish County on projects, reviews projects proposals, and makes recommendations to the Forest Supervisor for projects to be funded by Title II dollars. The Snohomish County Resource Advisory Committee was established to carryout the requirements of the Secure Rural Schools and Community Self-Determination Act of 2000.

FOR FURTHER INFORMATION CONTACT: Direct questions regarding this meeting to Barbara Busse, Designated Federal Official, USDA Forest Service, Mt. Baker-Snoqualmie National Forest, 74920 NE. Stevens Pass Hwy, P.O. Box 305, Skykomish, WA 98288 (phone: 425-744-3351).

Dated: April 4, 2005.
Barbara Busse,
Designated Federal Official.

[FR Doc. 05-6998 Filed 4-7-05; 8:45 am]

BILLING CODE 3410-11-M